DEPARTMENT OF ENERGY

Federal Energy Regulatory Commission

Notice Of FERC Staff Attendance At 6th Cost Benefit Working Group Meeting Concerning The Proposed GridFlorida RTO

April 26, 2005.

The Federal Energy Regulatory Commission hereby gives notice that members of its staff may attend the 6th Cost Benefit Working Group (CBWG) meeting in Tampa, Florida on April 27, 2005 from 9:30 a.m.-3:30 p.m. (e.s.t.), in the offices of the Florida Reliability Coordinating Council, 1408 N. Westshore Blvd., Suite 1002, Tampa, Florida 33607-4512. The 6th CBWG meeting is intended to address the proposed GridFlorida Regional Transmission Organization (RTO) and the cost benefit study of the proposed GridFlorida RTO prepared by ICF Consulting.

The discussion may address matters at issue in Docket No. RT01-67-003.

The meeting is open to the public.

For more information, contact Robert T. Machuga, Office of Markets, Tariffs and Rates, Federal Energy Regulatory Commission at (202) 502-6004 or robert.machuga@ferc.gov.

Magalie R. Salas,
Secretary.

[FR Doc. E5-2101 Filed 5-2-05; 8:45 am]

BILLING CODE 6717-01-P